DEPARTMENT OF DEFENSE

Defense Acquisition Regulations System

[Docket Number DARS-2021-0003; OMB Control Number 0704-0483]

Information Collection Requirement; Defense Federal Acquisition Regulation Supplement (DFARS); Independent Research and Development Technical Descriptions

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by April 30, 2021.

SUPPLEMENTARY INFORMATION: Title and OMB Number: Defense Federal Acquisition Regulation Supplement (DFARS), Independent Research and Development Technical Descriptions; OMB Control Number 0704-0483.

Type of Request: Revision and extension of a currently approved collection.

Affected Public: Businesses or other for-profit and not-for-profit institutions.

Obligation to Respond: Required to obtain or retain benefits.

Reporting Frequency: On occasion.

Number of Respondents: 69.

Responses per Respondent: 90.49, approximately.

Annual Responses: 6,244.

Average Burden per Response: 0.5 hour.

Annual Burden Hours: 3,122.

Needs and Uses: DFARS 231.205-18 requires contractors to report independent research and development (IR&D) projects to the Defense Technical Information Center (DTIC) using DTIC's online IR&D database. The inputs must be updated at least annually and when the project is completed. The data provide in-process information on IR&D projects for which DoD reimburses the contractor as an allowable indirect expense. In addition to improving the Department's ability to determine whether contractor IR&D costs are allowable, the data provide visibility into the technical content of industry IR&D activities to meet DoD needs.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela James. Requests for copies of the information collection proposal should be sent to Ms. James at whs.mc-alex.esd.mbx.dd-dod-information-collections@mail.mil.

Jennifer D. Johnson,
Regulatory Control Officer, Defense Acquisition Regulations System.

[FR Doc. 2021-06570 Filed 3-30-21; 8:45 am]

BILLING CODE 6820-ep-P